NATIONAL AERONAUTICS AND SPACE ADMINISTRATION

14 CFR Ch. V

Regulatory Agenda

AGENCY: National Aeronautics and Space Administration (NASA).

ACTION: Semiannual regulatory agenda.

SUMMARY: This agenda announces the proposed regulatory actions NASA plans for the next 12 months and those completed since the fall 2018 edition. This agenda was developed under the guidelines of Executive Orders (E.O.) 12866 “Regulatory Planning and Review,” as amended, Executive Order 13771 “Reducing Regulation and Controlling Regulatory Costs,” and Executive Order 13563 “Improving Regulation and Regulatory Review.” The purpose in publishing this agenda is to allow interested persons an opportunity to participate in the rulemaking process. Members of the public may submit comments on individual proposed and interim final rulemakings at www.regulations.gov during the comment period that follows publication in the Federal Register. This agenda updates the report published on October 17, 2018 and next agenda is scheduled for publication in the fall of 2019. The complete Unified Agenda is available online at www.reginfo.gov.

ADDRESSES: Deputy Associate Administrator, Office of the Mission Support Directorate, NASA Headquarters, Washington, DC 20546.

FOR FURTHER INFORMATION CONTACT: Cheryl E. Parker, (202) 358-0252.

SUPPLEMENTARY INFORMATION: OMB guidelines dated February 7, 2019, “Spring 2019 Unified Agenda of Federal Regulatory and Deregulatory Actions,” require a regulatory agenda of those regulations under development and review to be published in the Federal Register each spring and fall.

Dated: March 6, 2019.
Verron M. Brade,
Deputy Associate Administrator, Office of the Mission Support Directorate.

National Aeronautics and Space Administration—Final Rule Stage
Sequence No. | Title | Regulation Identifier No.
186 | Uniform Administrative Requirements, Cost Principles, and Audit Requirements for Federal Awards (Section 610 Review) (Section 610 Review) | 2700-AE49

NATIONAL AERONAUTICS AND SPACE ADMINISTRATION (NASA)

Final Rule Stage

186. Uniform Administrative Requirements, Cost Principles, and Audit Requirements for Federal Awards (Section 610 Review) (Section 610 Review)

E.O. 13771 Designation: Deregulatory.

Legal Authority: 51 U.S.C. 20113

Abstract: In December 2014, OMB together with NASA and the other Federal awarding agencies, issued a joint interim rule to implement the new guidance at 2 CFR 200 titled “Uniform Administrative Requirements, Cost Principles, and Audit Requirements for Federal Awards (Uniform Guidance).” OMB used the rulemaking procedure when promulgating this common rule on grants and cooperative agreements and required each agency to adopt OMB's common rule on grants and cooperative agreements These revisions fulfill OMB guidance.

Timetable:

Action | Date | FR Cite
Direct Final Rule | 05/00/19 |

Regulatory Flexibility Analysis Required: No.

Agency Contact: Antanese N. Crank, National Aeronautics and Space Administration, 300 E Street, SW, Washington, DC 20546, Phone: 202 358-4683, Email: antanese.n.crank@nasa.gov.

RIN: 2700-AE49

[FR Doc. 2019-11860 Filed 6-21-19; 8:45 am]

BILLING CODE 7510-13-P